DEPARTMENT OF THE INTERIOR

National Park Service

[NPS-WASO-NRNHL-20988; PPWOCRADI0, PCU00RP14.R50000]

National Register of Historic Places; Notification of Pending Nominations and Related Actions

AGENCY: National Park Service, Interior.

ACTION: Notice.

SUMMARY: The National Park Service is soliciting comments on the significance of properties nominated before April 23, 2016, for listing or related actions in the National Register of Historic Places.

DATES: Comments should be submitted by June 9, 2016.

ADDRESSES: Comments may be sent via U.S. Postal Service to the National Register of Historic Places, National Park Service, 1849 C St. NW., MS 2280, Washington, DC 20240; by all other carriers, National Register of Historic Places, National Park Service, 1201 Eye St. NW., 8th Floor, Washington, DC 20005; or by fax, 202-371-6447.

SUPPLEMENTARY INFORMATION: The properties listed in this notice are being considered for listing or related actions in the National Register of Historic Places. Nominations for their consideration were received by the National Park Service before April 23, 2016. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

ARKANSAS

Cleburne County

Gunn, O.D., Trade and Sale Barn, 10 Anna St., Quitman, 16000316

Garland County

First Methodist Church Christian Education Building, 1100 Central Ave., Hot Springs, 16000317

Lawrence County

Walnut Ridge Army Airfield Access Road, Roughly bounded by US 67 & jct. of Fulbright Ave. & Stafford Ln., College City, 16000318

Pulaski County

Kleinschmidt, Gustave B., House, 621 E. 16th St., Little Rock, 16000319

Sebastian County

Chambers, Oscar, House, 3200 S. Dallas St., Fort Smith, 16000320

Sharp County

Little Springs Missionary Baptist Church, 4040 AR 58, Poughkeepsie, 16000321

CALIFORNIA

Los Angeles County

Renwick, Helen Goodwin, House, 211 N. College Ave., Claremont, 16000322

FLORIDA

St. Johns County

Milam, Arthur, House, 1033 Ponte Vedra Blvd., Ponte Vedra Beach, 16000323

ILLINOIS

Kane County

Garfield Farm and Garfield Tavern (Boundary Increase), 39W926/958 IL 38, Campton Hills, 16000326

McLean County

Van Leer, Margaret and Bird, Broadview Mansion, 1301 S. Fell Ave., Normal, 16000327

Mercer County

Downtown Aledo Historic District, 100-200 blks. N. College, 100, 200, 300 blks. S. College, 100 blk. NW., 2nd, 200 blk. SW. 2nd Aves., Aledo, 16000328

Stephenson County

Freeport City Hall, 230 W. Stephenson, Freeport, 16000329

INDIANA

Jackson County

Shields' Mill Covered Bridge, Shields Rd. across E. Fork of White R., Brownstown, 16000330

Jasper County

Halleck, Charles, Student Center, (Modern Architecture of Rensselaer, Indiana MPS) Father Gross Rd., Rensselaer, 16000331

Rank, Hugh and Leona, House, (Modern Architecture of Rensselaer, Indiana MPS) 975 Winding Rd., Rensselaer, 16000332

Schwietermann Hall, (Modern Architecture of Rensselaer, Indiana MPS) Schuster Rd., Rensselaer, 16000333

Jefferson County

Allen, Lemuel, Farm, 3768 E. Pleasant Ridge Rd., Madison, 16000334

Wolf, Mathias, Farm, 4137 E. Pleasant Ridge Rd., Madison, 16000335

Marion County

Hubbard, Willard and Josephine, House, 1941 N. Delaware St., Indianapolis, 16000336

Marshall County

Norris Farm—Maxinkuckee Orchard, 18799 Peach Rd., Culver, 16000337

MAINE

Cumberland County

Little Mark Island Monument, N. Casco Bay at mouth of Merriconeag Sound, Harpswell, 16000338

MICHIGAN

Marquette County

Presque Isle Harbor Breakwater Light, (Light Stations of the United States MPS) In L. Superior on breakwater at NE. side of Presque Isle Harbor, Marquette, 16000339

MINNESOTA

St. Louis County

Duluth Harbor North Pier Light, (Light Stations of the United States MPS) In L. Superior at E. end of Duluth Ship Canal N. pier, Duluth, 16000340

Duluth Harbor South Breakwater Outer Light, (Light Stations of the United States MPS) In L. Superior at E. end of Duluth Harbor Ship Canal S. Breakwater, Duluth, 16000341

MISSOURI

Greene County

Trail of Tears Roadbed Segment on Josiah Danforth Farm, (Cherokee Trail of Tears in Missouri MPS) Address Restricted, Strafford, 16000342

Ralls County

Ilasco Historic District, 10998 Ilasco Trail, Hannibal, 16000343

NEW YORK

Niagara County

South Junior High School, 561 Portage Rd., Niagara Falls, 16000344

Ontario County

Canandaigua Historic District (Boundary Increase), Catherine, Dungan, Brook, Hubble & Sly Sts., portions of Park, Wood, Washington, Howell, Bemis, Main & Gibson Sts., Canandaigua, 16000345

OREGON

Multnomah County

Hamlin, Charles Hunter, House, 1322 SE. 282nd Ave., Gresham, 16000346

Wasco County

Antelope School, 45500 McGreer St., Antelope, 16000347

TEXAS

Bowie County

Hotel Grim, 301 N. State Line Ave., Texarkana, 16000348

Childress County

Childress Commercial and Civic Historic District, Roughly bounded by 3rd St., NW., Aves. A & I, 2nd St., NE., Fair Park & 810 Ave. I NE., Childress, 16000349

Harris County

Cheek—Neal Coffee Company Building, 2017 Preston, Houston, 16000350

Jackson County

Allen Memorial Presbyterian Church, 301 W. Church St., Edna, 16000351

Midland County

Vaughn Building, 400 W. Texas Ave., Midland, 16000352

Tarrant County

Fortune Arms Apartments, 601 W. 1st St., Fort Worth, 16000353

Travis County

Lions Municipal Golf Course, 2901 Enfield Rd., Austin, 16000354

A request to move has been received for the following properties:

ARKANSAS

Columbia County

Old Alexander House, NE. of Magnolia, Magnolia, 79000435

Ozmer House, Southern Arkansas University farm, US 82 Bypass, Magnolia, 86003226

Washington County

Washington County Road 35 Bridge, (Historic Bridges of Arkansas MPS) Co. Rd. 35, Woolsey, 00000637

Authority: 60.13 of 36 CFR part 60.

Dated: April 29, 2016.
Roger Reed,
Acting Chief, National Register of Historic Places/National Historic Landmarks Program.

[FR Doc. 2016-12270 Filed 5-24-16; 8:45 am]

BILLING CODE 4312-51-P